DEPARTMENT OF ENERGY

Federal Energy Regulatory Commission

[Docket No. RT01-98-002]

PJM Interconnection, L.L.C.; Notice of Filing

September 19, 2001.

Take notice that on September 10, 2001, PJM Interconnection, L.L.C. (PJM) and Allegheny Power (Allegheny) tendered for filing with the Federal Energy Regulatory Commission (Commission) proposed amendments to the PJM Open Access Transmission Tariff, to the Amended and Restated Operating Agreement of PJM Interconnection, L.L.C. and to the PJM West Reliability Assurance Agreement PJM. Allegheny states that the proposed amendments are submitted to comply with the Commission's order in this proceeding dated July 12, 2001.

Copies of this filing have been served on all parties, as well as on all PJM Members and the state electric regulatory commissions in the PJM control area and in the PJM West Region.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before October 1, 2001. Protests will be considered by the Commission to determine the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-23829 Filed 9-24-01; 8:45 am]

BILLING CODE 6717-01-P